DEPARTMENT OF ENERGY

Federal Energy Regulatory Commission

[Docket No. RP98-54-000]

Colorado Interstate Gas Company; Notice of Informal Settlement Conference

June 12, 2000.

On May 23, 2000, an informal settlement conference was held in the above-docketed filing respecting the Kansas ad valorem issues. At that conference, the participants agreed to hold a second informal settlement conference on June 29, 2000. The conference will begin at 10:30 and the location will be at the offices of the Attorney General, 1525 Sherman Street, Denver, Colorado 80203. The specific meeting room will be posted at the Attorney General's offices.

All interested parties in the above dockets are requested to attend the informal settlement conference. If a party has any questions respecting the conference, please call Richard Miles, the Director of the Dispute Resolution Service. His telephone number is 1 877 FERC ADR (337-2237) or 202-208-0702 and his e-mail address is richard.miles@ferc.fed.us.

David P. Boergers,
Secretary.

[FR Doc. 00-15272 Filed 6-15-00; 8:45 am]

BILLING CODE 6717-01-M